DEPARTMENT OF EDUCATION

National Institute on Disability and Rehabilitation Research

AGENCY: Office of Special Education and Rehabilitative Services, Department of Education.

ACTION: Notice of Proposed Funding Priorities for Fiscal Years (FYs) 2001-2003 for Community-based Research Projects on Technology for Independence and Resource Center for Community-based Disability and Rehabilitation Research Projects on Technology for Independence.

SUMMARY: We propose funding priorities for Community-based Research Projects on Technology for Independence and Resource Center for Community-based Disability and Rehabilitation Research Projects on Technology for Independence under the National Institute on Disability and Rehabilitation Research (NIDRR) for FYs 2001-2003. We take this action to focus research attention on areas of national need. We intend these priorities to improve the rehabilitation services and outcomes for individuals with disabilities. This notice contains proposed priorities under the Disability and Rehabilitation Research Projects and Centers Program.

DATES: We must receive your comments on or before May 7, 2001.

ADDRESSES: All comments concerning these proposed priorities should be addressed to Donna Nangle, U.S. Department of Education, 400 Maryland Avenue, SW., room 3414, Switzer Building, Washington, DC 20202-2645. Comments may also be sent through the Internet: donna_nangle@ed.gov

FOR FURTHER INFORMATION CONTACT: Donna Nangle. Telephone: (202) 205-5880. Individuals who use a telecommunications device for the deaf (TDD) may call the TDD number at (202) 205-4475.

Individuals with disabilities may obtain this document in an alternative format (e.g., Braille, large print, audiotape, or computer diskette) on request to the contact person listed in the preceding paragraph.

SUPPLEMENTARY INFORMATION:

Invitation To Comment

We invite you to submit comments regarding these proposed priorities.

We invite you to assist us in complying with the specific requirements of Executive Order 12866 and its overall requirement of reducing regulatory burden that might result from these proposed priorities. Please let us know of any further opportunities we should take to reduce potential costs or increase potential benefits while preserving the effective and efficient administration of the program.

During and after the comment period, you may inspect all public comments about these priorities in Room 3414, Switzer Building, 330 C Street SW., Washington, DC, between the hours of 8 a.m. and 4 p.m., Eastern time, Monday through Friday of each week except Federal holidays.

Assistance to Individuals With Disabilities in Reviewing the Rulemaking Record

On request, we will supply an appropriate aid, such as a reader or print magnifier, to an individual with a disability who needs assistance to review the comments or other documents in the public rulemaking record for these proposed priorities. If you want to schedule an appointment for this type of aid, you may call (202) 205-8113 or (202) 260-9895. If you use a TDD, you may call the Federal Information Relay Service at 1-800-877-8339.

National Education Goals

These proposed priorities will address the National Education Goal that every adult American will be literate and will possess the knowledge and skills necessary to compete in a global economy and exercise the rights and responsibilities of citizenship.

The authority for the program to establish research priorities by reserving funds to support particular research activities is contained in sections 202(g) and 204 of the Rehabilitation Act of 1973, as amended (the Act) (29 U.S.C. 762(g) and 764(b)(4)). Regulations governing this program are found in 34 CFR part 350.

We will announce the final priorities in a notice in the Federal Register. We will determine the final priorities after considering responses to this notice and other information available to the Department. This notice does not preclude us from proposing or funding additional priorities, subject to meeting applicable rulemaking requirements.

Note: This notice does not solicit applications. In any year in which we choose to use these proposed priorities, we invite applications through a notice published in the Federal Register. When inviting applications we designate each priority as absolute, competitive preference, or invitational.

The proposed priorities refer to NIDRR's Long Range Plan (the Plan). The Plan can be accessed on the World Wide Web at: (http://www.ed.gov/offices/OSERS/NIDRR/#LRP).

Disability and Rehabilitation Research Projects and Centers Program

The purpose of the DRRP and Centers program is to plan and conduct research, demonstration projects, training, and related activities to:

(a) Develop methods, procedures, and rehabilitation technology that maximizes the full inclusion and integration into society, employment, independent living, family support, and economic and social self-sufficiency of individuals with disabilities; and

(b) Improve the effectiveness of services authorized under the Act.

Priorities for Community-based Rehabilitation Projects on Technology for Independence

Background

Issues in Involvement of Community-based Organizations of People With Disabilities in Promoting Technology for Independence.

As stated in the Plan, “It is the mission of NIDRR to generate, disseminate, and promote the full use of new knowledge that will improve substantially the options for disabled individuals to perform regular activities in the community, and the capacity of society to provide full opportunities and appropriate supports for its disabled citizens.” Assistive Technology (AT) and environmental access play key roles in this mission. The Plan provides detailed definitions, examples, and research objectives for AT and environmental access, including universal design.

According to a National Center for Health Statistics report titled “Trends and Differential Use of Assistive Technology Devices: United States, 1994,” approximately 17 million people used at least one AT device. AT and related environmental access approaches (environmental access approaches include the concept of universal design) help people with disabilities function on a more equal basis in society. For more information on the contributions of AT and access solutions, see the examples and links to relevant web sites provided by the United States Architectural and Transportation Barriers Compliance Board, also known as the Access Board (http://www.access-board.gov/), and the Doorway to Research on Technology for Access and Function at the National Center for the Dissemination of Disability Research (NCDDR) (http://www.ncddr.org/rpp/techaf/index.html).

The new paradigm of disability embodied in the Plan requires analysis of the extent to which AT and environmental access helps individuals with disabilities in attaining full participation in society. Much of NIDRR's work reflects the components of the Independent Living (IL) philosophy: consumer control, self-help, advocacy, peer relationships and peer role models, and equal access to society, programs, and activities. IL and achieving community integration to the maximum extent possible are issues at the crux of NIDRR's mission. Furthermore, NIDRR is committed to the creation of a theoretical framework with measurable outcomes that is based upon the experiences of individuals with disabilities.

To improve “end-user” participation in addressing AT problems, and related environmental access solutions, NIDRR will support projects that involve community-based organizations in researching AT related problems and needs. Two types of projects will be supported. The first type includes research projects that will investigate the use of, and need for, AT devices and services at the community level. The second type of project is a community-based research “Resource Center” that will develop, evaluate, and disseminate improved research and training methods appropriate to AT and environmental access involvement of community-based disability organizations. The Resource Center will also provide AT and environmental access technical assistance to community-based organizations and will foster cooperation among the funded projects. These community-based research projects will broaden the inclusion of persons with disabilities in developing practical and affordable solutions to AT and environmental access problems and needs.

In recent years, a number of NIDRR grant competitions have led to research projects and activities that aim at improving access to AT and reducing environmental barriers. For many years, NIDRR funded grants to States under the Technology-Related Assistance for Individuals with Disabilities Act of 1988 (Tech Act). In addition to research programs under Title II of the Rehabilitation Act of 1973, as amended (29 U.S.C. 796) (Rehab Act), NIDRR now has responsibility for AT programs under the Assistive Technology Act of 1998 (AT Act), which replaced the Tech Act. A June 5, 2000 notice (65 FR 35768-35774) for a new Alternative Financing Program under Title III of the AT Act identified numerous issues affecting access of people with disabilities to AT. An April 5, 1999 notice (64 FR 16531) under NIDRR's Rehabilitation Engineering Research Center (RERC) program discussed the importance of improving access to the environment through universal design. For information on ongoing and completed NIDRR-supported activities in these areas, contact the National Rehabilitation Information Center at http://www.naric.com/ or telephone 1-800-346-2742.

This year, NIDRR anticipates awarding a number of projects related to AT and environmental access. For updates on the status of announcements please see the Education Department Forecast of Funding Opportunities under Department of Education Discretionary Grant Programs for FY 2001 at http://ocfo.ed.gov/grntinfo/forecast/forecast.htm.

According to the Rehab Act, the purpose of IL programs is “to promote a philosophy of consumer control, peer support, self-help, self-determination, equal access, and individual empowerment, equal access, and system advocacy, in order to maximize the leadership, empowerment, independence, and productivity of individuals with disabilities, and the integration and full inclusion of individuals with disabilities into the mainstream of American society.” The concepts in this philosophy of consumer control, peer support, and self-help place these Title VII independent living centers (CILs) within a broader world-wide grouping known as “community-based” organizations.

The term “community-based” organization has varying meanings in disability and rehabilitation programs and in social research. For the purpose of these two priorities, a “community-based disability organization” is a consumer-directed community organization such as a CIL. Consumer control is the key. Some community rehabilitation service organizations, for example psychosocial rehabilitation programs, also value consumer direction. Other disability-related organizations are located in community settings, but do not have significant consumer direction. Section 7 of the Rehab Act, for example, identifies community rehabilitation programs as providers of AT devices and services for persons with disabilities, but such organizations may or may not be consumer directed. Organizations with consumer direction, including CILs and other organizations such as protection and advocacy (P&A) agencies, are in a unique position to help identify and study the specific needs for AT and environmental access of individuals from diverse populations and therefore are the focus of this research effort.

A number of private foundations and international agencies have identified the value of investing in “grassroots”, consumer-directed organizations, particularly in public health and economic development. These organizations aim at reducing poverty or specific diseases such as HIV/AIDS, or they provide assistance to special needs groups such as people in troubled urban and rural areas (see the World Wide Web sites or publications of the Pew Fund for Health and Human Services at http://www.pewtrusts.com/, the World Health Organization at http://www.who.int/, and the Robert Wood Johnson Foundation at http://www.rwjf.org/index.jsp for examples).

Community-based research encompasses a broad set of research activities with differing, and sometimes competing, concepts and methods. Sociology, anthropology, community psychology and public health, for example, use applied community research methods. For the purpose of these two proposed priorities, community-based research is intensive, systematic study directed toward new or full scientific knowledge or understanding of AT or environmental access problems. In addition, the research must be completed in the community under the direction of community-based disability organizations (Sclove, R.E, Scammell, M.L. & Holland, B. (1998). Community-based Research in the U.S. Amherst, MA: The Loka Institute http://www.loka.org/).

Community-based disability and rehabilitation research puts primary emphasis on assisting persons with disabilities by producing and disseminating knowledge and technology and promoting and advancing the rehabilitation and integration process at the community level. Community-based disability and rehabilitation research, according to these two priorities, applies to the use of, or need for, AT devices and services by persons with disabilities in the community, and related issues of environmental access. Such research should be performed by qualified researchers in cooperation with community-based disability organizations. NIDRR supports the notion that persons with disabilities provide unique perspectives about living with disability and must be included in community-based research projects to the greatest possible extent. Their experience with, and interest in, finding practical solutions to problems encountered in home, school, place of work, and community make them informed participants, if not particularly qualified researchers. To ensure that technology-related problems relevant to persons with disabilities are studied, contributions from such persons are encouraged. In addition, university-based research on disability needs to be complemented by community-based research to provide the community with useful and immediate tools, technologies, and knowledge for overcoming barriers to access and participation in economy and society.

Community-based rehabilitation research is particularly suited for persons with disabilities. According to the University of Washington School of Public Health and Community Medicine's Principles of Community-Based Research, a research partnership between a university and community-based organizations should accomplish the following:

• Community partners should be involved at the earliest stages of the project, helping to define research objectives and having input into how the project will be organized.

• Community partners should have real influence on project direction—that is, enough leverage to ensure that the original goals, mission, and methods of the project are adhered to.

• Research processes and outcomes should benefit the community. Community members should be hired and trained whenever possible and appropriate, and the research should help build and enhance community assets;

• Community members should be part of the analysis and interpretation of data and should have input into how the results are distributed. This does not imply censorship of data or of publication, but rather the opportunity to make clear the community's views about the interpretation prior to final publication;

• Productive partnerships between researchers and community members should be encouraged to last beyond the life of the project. This will make it more likely that research findings will be incorporated into ongoing community programs and therefore provide the greatest possible benefit to the community from research; and

• Community members should be empowered to initiate their own research projects that address needs they identify themselves.

Proposed Priority 1: Community-based Disability and Rehabilitation Research Projects on Technology for Independence

The Plan identifies disability in terms of the relationship between the individual and the natural, built, cultural, and social environments (63 FR 57189-57219). The Plan focuses on both individual and systemic factors that have an impact on the ability of people to function. The elements of the Plan include employment outcomes, health and function, technology for access and function, and IL and community integration. To attain the goals in these areas, the Plan also includes capacity building for research and training, and to ensure knowledge dissemination and utilization. Each area of the Plan includes objectives at both the individual and system levels. For example, the technology for access and function area of the Plan includes research objectives to develop AT that supports people with disabilities to function and live independently and obtain better employment outcomes, and research objectives to promote improved access to the built environment and concepts of universal design. It is clear that the challenges and opportunities for AT and improved environmental access reflect all of the priority areas of the Plan.

Proposed Priority 1

We proposes to establish research projects to involve community-based disability organizations in AT and environmental access research leading to practical and affordable solutions to identified problems and needs, and building research capacity at the community level and in community-based organizations serving persons with disabilities.

In carrying out these purposes, a project must:

(a) From the examples of research objectives below, conduct a significant and substantial research program on the involvement of community-based disability organizations in promoting technology for access and function that will contribute to the advancement of knowledge in accordance with the Plan by:

• Investigating and developing research questions, methodologies, and recommendations for use by other research entities in solving technology-related, engineering, psychosocial, economic and other problems at the individual and systems levels, in the United States (U.S.); and

• Designing and testing models for partnership of community-based disability organizations in research, participant observation studies and other qualitative and quantitative research approaches to using technology in community-based settings; and

(b) Disseminate findings from community-based research to persons with disabilities, their representatives, disability and rehabilitation service providers, researchers, planners, and policy makers.

In carrying out these purposes, the project must:

• Coordinate with appropriate federally funded projects. Coordination responsibilities will be identified through consultation with the NIDRR project officer and may include outreach to specific NIDRR DRRPs, RERCs, Rehabilitation Research and Training Centers (RRTCs), Disability Business Technical Assistance Centers (DBTACs) and AT Projects; Office of Special Education technology projects and Parent Training and Information Centers; and Rehabilitation Services Administration training, special demonstration, and IL projects;

• Involve individuals with disabilities in key decision-making;

• Participate in a formative review session to be convened by the Resource Center within six months of award, and cooperate with the Resource Center's capacity-building and evaluation activities; and

• Participate in a state-of-the-science conference in the third year of the grant.

Proposed Priority 2: Resource Center for Community-based Disability and Rehabilitation Research Projects on Technology for Independence

There is a need for capacity-building on conceptual and methodological approaches to research on the involvement of community-based organizations of people with disabilities in promoting technology for independence. There is need for training, technical assistance, and dissemination efforts to guide ongoing efforts. Advice and strategies are needed in specific areas including, but not limited to, research designs and methodologies, case studies, focus group research, AT and environmental assessment, small sample surveys, participant observation, ethnography, and participatory action research. There is a need to develop “how-to-do” materials on disability-related AT and environmental access community-based research, reference resources, web-based access to materials, and other means of communicating knowledge about community-based rehabilitation research in the U.S.

Proposed Priority 2

We propose to establish a resource center to assist Disability and Rehabilitation Research Projects on Technology for Independence and other related NIDRR activities under the Plan with capacity-building for improving the involvement of community-based organizations of people with disabilities in promoting technology for independence.

In carrying out these purposes, the project must:

(a) Establish and conduct a significant and substantial resource program on capacity-building in research, training, and TA on the involvement of community-based disability organizations in promoting technology for access and function that will contribute to the advancement of knowledge in accordance with the Plan.

(b) Disseminate findings from the Resource Center's program on community-based research to DRRPs on Technology for Independence and other related NIDRR-funded activities under the Plan.

In addition to the activities proposed by the applicant to carry out these purposes, the Resource Center must:

• Involve individuals with disabilities and, if appropriate, their representatives, in planning and implementing the research, training, and dissemination activities, and in evaluating the Center;

• Coordinate with appropriate federally funded projects. Coordination responsibilities will be identified through consultation with the NIDRR project officer and may include outreach to specific NIDRR DRRPs, RERCs, RRTCs, DBTACs and AT Projects; Office of Special Education technology projects and Parent Training and Information Centers; and Rehabilitation Services Administration training, special demonstration, and IL projects;

• Convene a formative review session within six months of project award with the DRRPs on Technology for Independence to assist these community-based rehabilitation researchers in the finalization of their research plans, and to help them with the commencement of their research projects; and

• Conduct a state-of-the-science conference, including the DRRPs on Technology for Independence, in the third year of the grant and publish a comprehensive report on the final outcomes of the conference in the fourth year of the grant.

Applicable Program Regulations: 34 CFR part 350.

Program Authority: 29 U.S.C. 762(g) and 764(b)(4).

Electronic Access to This Document

You may view this document, as well as all other Department of Education documents published in the Federal Register, in text or Adobe Portable Document Format (PDF) on the Internet at the following site: http://www.ed.gov/legislation/FedRegister

To use PDF you must have Adobe Acrobat Reader, which is available free at the previous site. If you have questions about using PDF, call the U.S. Government Printing Office (GPO), toll free, at 1-888-293-6498; or in the Washington, DC, area at (202) 512-1530.

Note: The official version of this document is published in the Federal Register. Free Internet access to the official edition of the Federal Register and the Code of Federal Regulations is available on GPO Access at: http://www.access.gpo.gov/nara/index.html

(Catalog of Federal Domestic Assistance Number: 84.133A, Disability and Rehabilitation Research Project and Centers Program)
Dated: April 2, 2001.
Andrew J. Pepin,
Executive Administrator for Special Education and Rehabilitative Services.

[FR Doc. 01-8462 Filed 4-5-01; 8:45 am]

BILLING CODE 4000-01-D